DEPARTMENT OF HEALTH AND HUMAN SERVICES

Centers for Disease Control and Prevention

Healthcare Infection Control Practices Advisory Committee, (HICPAC)

In accordance with section 10(a)(2) of the Federal Advisory Committee Act (Pub. L. 92-463), the Centers for Disease Control and Prevention (CDC) announces the following meeting for the aforementioned committee:

Times and Dates: 9 a.m.-5 p.m., June 17, 2010; 9 a.m.-12 p.m., June 18, 2010.

Place: CDC, Global Communications Center, Building 19, Auditorium B3, 1600 Clifton Road, NE., Atlanta, Georgia 30333.

Status: This meeting is open to the public, limited only by the space available. Please register for the meeting online at http://www.cdc.gov/hicpac or by sending an e-mail to hicpac@cdc.gov.

Purpose: The Committee is charged with providing advice and guidance to the Secretary, the Assistant Secretary for Health, the Director, CDC, and the Director, National Center for Emerging and Zoonotic Infectious Diseases (NCEZID) regarding (1) The practice of healthcare infection control; (2) strategies for surveillance, prevention, and control of infections (e.g., nosocomial infections), antimicrobial resistance, and related events in settings where healthcare is provided; and (3) periodic updating of guidelines and other policy statements regarding prevention of healthcare-associated infections and healthcare-related conditions.

Matters to be Discussed: The agenda will include: Updates on CDC's activities for healthcare associated infections; the draft guideline for the Prevention of Norovirus Gastroenteritis Outbreaks in Healthcare Settings; the draft guideline for prevention of infections among patients in neonatal intensive care units (NICU); the draft guideline for Infection Control in Healthcare Personnel; and a discussion of infection control in ambulatory care settings.

Agenda items are subject to change as priorities dictate.

Contact Person for More Information: Michelle King, HICPAC, Division of Healthcare Quality Promotion, National Center for Emerging and Zoonotic Infectious Diseases, CDC, 1600 Clifton Road, N.E., Mailstop A-07, Atlanta, Georgia 30333 Telephone (404) 639-2936. E-mail: hicpac@cdc.gov.

The Director, Management Analysis and Services Office, has been delegated the authority to sign Federal Register notices pertaining to announcements of meetings and other committee management activities, for both CDC and the Agency for Toxic Substances and Disease Registry.

Dated: May 19, 2010.
Elaine L. Baker,
Director, Management Analysis and Services Office, Centers for Disease Control and Prevention.

[FR Doc. 2010-12749 Filed 5-26-10; 8:45 am]

BILLING CODE 4163-18-P